ENVIRONMENTAL PROTECTION AGENCY

[EPA-HQ-OPP-2018-0141; FRL-9977-67]

Chlorpyrifos, Diazinon, and Malathion; National Marine Fisheries Service Biological Opinion Issued Under the Endangered Species Act; Extension of Comment Period

AGENCY: Environmental Protection Agency (EPA).

ACTION: Notice; extension of comment period.

SUMMARY: EPA issued a notice in the Federal Register of March 23, 2018, opening a 60-day comment period for the National Marine Fisheries Service's (NMFS) Biological Opinion on chlorpyrifos, diazinon, and malathion. This document extends the comment period for 60 days, from May 22, 2018 to July 23, 2018. EPA is extending the comment period after receipt and consideration of several extension requests citing the length and complexity of the Biological Opinion, and the additional time needed to compile the necessary information requested by EPA.

DATES: Comments, identified by docket identification (ID) number EPA-HQ-OPP-2018-0141, must be received on or before July 23, 2018.

ADDRESSES: Follow the detailed instructions provided under ADDRESSES in the Federal Register document of March 23, 2018 (83 FR 12754) (FRL-9975-59).

FOR FURTHER INFORMATION CONTACT: Tracy Perry, Pesticide Re-Evaluation Division (7508P), Office of Pesticide Programs, Environmental Protection Agency, 1200 Pennsylvania Ave. NW, Washington, DC 20460-0001; telephone number: (703) 308-0128; email address: perry.tracy@epa.gov.

SUPPLEMENTARY INFORMATION: This document extends the public comment period established in the Federal Register document of March 23, 2018. In that document, EPA opened a 60-day comment period for the NMFS Biological Opinion on chlorpyrifos, diazinon, and malathion. EPA is hereby extending the comment period, which was set to end on May 22, 2018, to July 23, 2018.

To submit comments, or access the docket, please follow the detailed instructions provided under ADDRESSES in the Federal Register document of March 23, 2018. If you have questions, consult the person listed under FOR FURTHER INFORMATION CONTACT.

Authority: 7 U.S.C. 136 et seq.

Dated: May 2, 2018.
Yu-Ting Guilaran,
Director, Pesticide Re-Evaluation, Office of Pesticide Programs.

[FR Doc. 2018-10346 Filed 5-14-18; 8:45 am]

BILLING CODE 6560-50-P